DEPARTMENT OF DEFENSE

Department of the Army

Environmental Impact Statement Addressing Heat and Electrical Generation and Distribution Upgrades at Fort Wainwright, Alaska

AGENCY: Department of the Army, DOD.

ACTION: Notice of intent.

SUMMARY: The Department of the Army announces its intent to conduct public scoping under the National Environmental Policy Act (NEPA) and solicit public comments to gather information to prepare an Environmental Impact Statement (EIS) to address heat and electrical generation and distribution upgrades at Fort Wainwright, Alaska. The current condition of the heat and power plant, one of the oldest coal-fired central heat and power plants (CHPP) in the United States, and its aging heat distribution system requires an upgrade to provide reliable heat and electrical infrastructure for the installation that resolves safety, resiliency, fiscal, and regulatory concerns. The scoping process will help identify reasonable alternatives, potential environmental impacts, and key issues of concern to be evaluated in the EIS. Based on the information presented in the EIS, the Department of the Army will determine which of the identified heat and power generating alternatives would be implemented.

DATES: Comments must be sent by August 21, 2019.

ADDRESSES: Written comments should be forwarded to Laura Sample, NEPA Program Manager at: Directorate of Public Works, ATTN: IMFW-PWE (L. Sample), 1046 Marks Road #6000, Fort Wainwright, AK 99703-6000, email: laura.a.sample.civ@mail.mil.

FOR FURTHER INFORMATION CONTACT: Please contact Grant Sattler, Public Affairs Office, IMPC-FWA-PAO (Sattler), 1060 Gaffney Road #5900, Fort Wainwright, AK 99703-5900; telephone (907) 353-6701; email: alan.g.sattler.civ@mail.mil.

SUPPLEMENTARY INFORMATION: Fort Wainwright, Alaska is located in the interior of Alaska in the Fairbanks North Star Borough, and is home to the U.S. Army Garrison (USAG) Alaska and units of United States Army Alaska (USARAK). The Soldiers, Families, and Civilians that make up the Fort Wainwright population are reliant upon a 65-year old coal-fired CHPP and a 30-year old heat distribution system to heat and power more than 400 facilities. The system is operating at approximately 40 percent efficiency, has one of the highest utility costs of U.S. Army installations, has experienced near-catastrophic critical failures, is failing to meet air emissions standards, and poses a threat to USAG Alaska and USARAK missions. Constructing upgraded heat and electrical infrastructure would reduce utility costs, minimize the risk of a single point catastrophic failure, help safeguard mission readiness, meet energy efficiency standards, be compliant with emissions standards, and conform to Army-directed energy security criteria.

To understand the environmental consequences of the decision to be made, the EIS will evaluate the potential direct, indirect, and cumulative environmental impacts of a range of reasonable alternatives that meet the purpose and need of the Proposed Action. Alternatives to be considered in the EIS, including a No Action Alternative, are (1) construction of a new coal-fired CHPP, (2) construction of a new dual-fuel combustion turbine generator CHPP that would be primarily fueled by natural gas, and (3) decentralization of heat and power to a model in which heat is provided by distributed natural gas boilers installed at facilities across the installation and electricity is purchased from the regional electrical grid. Other reasonable alternatives raised during the scoping process and capable of meeting the project purpose and need will be considered for evaluation in the EIS.

Federal, state, and local agencies, Native Americans, Native American organizations, and the public are invited to be involved in the scoping process for the preparation of this EIS by participating in a scoping meeting or submitting written comments. The scoping process will help identify possible alternatives, potential environmental impacts, and key issues of concern to be analyzed in the EIS. Written comments must be sent within 30 days of publication of this Notice of Intent in the Federal Register. A scoping meeting will be held in Fairbanks, Alaska, with notification of the time and location published locally.

Brenda S. Bowen,
Army Federal Register Liaison Officer.

[FR Doc. 2019-15515 Filed 7-19-19; 8:45 am]

BILLING CODE 5001-03-P